ENVIRONMENTAL PROTECTION AGENCY

[ER-FRL-6671-2]

Environmental Impacts Statements; Notice of Availability

Responsible Agency: Office of Federal Activities, General Information (202) 564-7167 or http://www.epa.gov/compliance/nepa/.

Weekly receipt of Environmental Impact Statements

Filed 01/02/2006 Through 01/06/2006

Pursuant to 40 CFR 1506.9.

EIS No. 20060000, Final EIS, BLM, NM, McGregor Range Resource Management Plan Amendment (RMPA), Implementation, Otero County, NM, Wait Period Ends: 02/13/2006, Contact: Tom Phillips 505-525-4377.

EIS No. 20060001, Draft EIS, FHW, UT, Syracuse Road 1000 West to 2000 West, Transportation Improvements, Funding and U.S. Army COE Section 404 Permit, Syracuse City, Davis County, UT, Comment Period Ends: 02/27/2006, Contact: Jeff Berna 801-963-0182.

EIS No. 20060002, Draft EIS, BLM, UT, Coeur d'Alene Resource Management Plan, Implementation, Benewah, Bonner, Boundary, Kootenai and Shoshone Counties, ID, Comment Period Ends: 04/13/2006, Contact: Scott Pavey, 208-769-5050.

EIS No. 20060003, Final EIS, AFS, 00, Black Hills National Forest Land and Resource Management Plan Phase II Amendment, Proposal to Amend the 1997 Land and Resource Management Plan, Custer, Fall River, Lawrence, Meade and Pennington Counties, SD and Crook and Weston Counties, WY, Wait Period Ends: 02/13/2006, Contact: Craig Bobzien 605-673-9200.

EIS No. 20060004, Final EIS, FHW, MD, Intercounty Connector (ICC) from I-270 to US1, Funding and U.S. Army COE Section 404 Permit, Montgomery and Prince George's Counties, MD, Wait Period Ends: 02/13/2006, Contact: Dan Johnson 410-779-7154.

EIS No. 20060005, Final EIS, BLM, WY, Jonah Infill Drilling Project, Propose to Expand Development of Natural Gas Drilling, Sublette County, WY, Wait Period Ends: 02/13/2006, Contact: Mike Stiewig 307-367-5363.

Amended Notices

EIS No. 20050546, Draft EIS, BLM, ID, Smoky Canyon Mine Panels F & G, Proposed Mine Expansion, Caribou County, ID, Comment Period Ends: 03/03/2006, Contact: Bill Stout 208-478-6340. Revision of FR Notice Published 12/30/2005: Correction to Comment Period from 02/28/2006 to March 3, 2006.

Dated: January 10, 2006.
Robert W. Hargrove,
Director, NEPA Compliance Division, Office of Federal Activities.

[FR Doc. E6-328 Filed 1-12-06; 8:45 am]

BILLING CODE 6560-50-P